DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
City of Virginia Beach, Virginia
FEMA Docket No.: B-7775
Virginia | City of Virginia Beach | Atlantic Ocean | Approximately 550 feet east of Sandpiper Lane approximately 1.5 miles south of Little Island District Park | +10
|  |  | Approximately 150 feet east of Sandpiper Lane approximately 1 mile south of Little Island District Park | +10
|  |  | Approximately 300 feet north of Porpoise Lane between Sandfiddler Road and Sandpiper Road | +10
|  |  | Approximately 1,200 feet south of Porpoise Lane between Sandfiddler Road and Sandpiper Road | +10
|  |  | Numerous locations along the Atlantic shoreline (extending inland up to 1 mile) from Cape Henry to the southern-most corporate limit of VA Beach. AO zones with depths ranging 1-2 feet & X unshaded zones are now AE or VE zones with BFEs ranging 4-11 feet | +11
Virginia | City of Virginia Beach | Chesapeake Bay | Immediately south of Oceanview Avenue between Fentress Avenue and Seaview Avenue | +6.8
* National Geodetic Vertical Datum.
+ North American Vertical Datum.
# Depth in feet above ground.
ADDRESSES
City of Virginia Beach
Maps are available for inspection at 2405 Courthouse Drive, Building 2, Third Floor, Virginia Beach, VA 23456.

Flooding source(s) | Location of referenced elevation | * Elevation in feet (NGVD) + Elevation in feet (NAVD) # Depth in feet above ground Modified | Communities affected
Marin County, California and Incorporated Areas
FEMA Docket No.: B-7752
Black John Slough (backwater from San Pablo Bay) | Approximately 2,000 feet northwest of the intersection of Topaz Drive and Albatross Drive | +9 | City of Novato.
Corte Madera Creek | Approximately 250 feet north of the intersection of U.S. Highway 101 and Nellen Drive | +9 | Unincorporated Areas of Marin County.
| Approximately 100 feet east of the intersection of Greenbrae Boardwalk and Northwestern Pacific Railroad | +9
(Backwater from San Francisco Bay) | At the intersection of Birch Avenue and Apache Road (at Lagoon 2) | +9 | Town of Corte Madera.
(Backwater from San Francisco Bay) | Approximately 66 feet west of the intersection of Bon Air Road and Eliseo Drive | +9 | Unincorporated Areas of Marin County.
Coyote Creek | Approximately 800 feet northwest of the intersection of U.S. Highway 101 and Shoreline Highway | +9 | Unincorporated Areas of Marin County.
Gallinas Creek | At the intersection of Main Drive and Smith Ranch Road | +9 | City of San Rafael.
Miller Creek | Upstream side of downstream crossing of Lucas Valley Road | +75 | City of San Rafael.
| Approximately 200 feet downstream of upstream crossing of Lucas Valley Road | +111
Richardson Bay | Approximately 200 feet west of the intersection of San Rafael Avenue and Lagoon Road | +9 | City of Belvedere, Unincorporated Areas of Marin County.
| Approximately 2,000 feet northeast of the intersection of Johnson Street and Bridgeway | +9
San Anselmo Creek | Approximately 700 feet downstream of Meadow Way | +150 | Unincorporated Areas of Marin County.
| Approximately 1,700 feet downstream of Meadow Way | +155
(Backwater from San Pablo Bay) | Approximately 1,000 feet south of the San Antonio Creek and Mud Slough confluence | +8 | Unincorporated Areas of Marin County.
San Francisco Bay | Approximately 1,000 feet east of the intersection of Eden Lane and Paradise Drive | +9 | Unincorporated Areas of Marin County.
San Pablo Bay | Approximately 1,500 feet south of the intersection of Las Lomas Drive and Casa Grande Real | +9 | Unincorporated Areas of Marin County.
San Rafael Canal (backwater from San Rafael Bay) | Approximately 240 feet southeast of the intersection of Point San Pedro Road and Harbor View Court | +9 | Unincorporated Areas of Marin County.
* National Geodetic Vertical Datum.
+ North American Vertical Datum.
# Depth in feet above ground.
ADDRESSES
City of Belvedere
Maps are available for inspection at Belvedere City Hall, 450 San Rafael Avenue, Belvedere, California.
City of Novato
Maps are available for inspection at the City of Novato Public Works Department, 75 Rowland Way, Suite 200, Novato, California.
City of San Rafael
Maps are available for inspection at the City of San Rafael Public Works Department, 111 Morphew Street, San Rafael, California.
Town of Corte Madera
Maps are available for inspection at the Town of Corte Madera Public Works Department, 233 Tamalpais Drive, Suite 200, Corte Madera, California.
Unincorporated Areas of Marin County
Maps are available for inspection at the Marin County Public Works Department, Land Development Section, 3501 Civic Center Drive, San Rafael, California.

Flooding source(s) | Location of referenced elevation | * Elevation in feet (NGVD) + Elevation in feet (NAVD) # Depth in feet above ground ‸ Elevation in meters (MSL) Modified | Communities affected
Solano County, California, and Incorporated Areas
FEMA Docket No.: B-7764
Napa River | Approximately 115 feet east of the intersection of Murphy Lane and Tyler Road | +10 | City of Vallejo, Unincorporated Areas of Solano County.
Napa River | Approximately 820 feet northeast of the intersection of L Street and Railroad Avenue | +9 | City of Vallejo.
San Pablo Bay | Approximately 290 feet south of the intersection of Cedar Avenue and I Street | +10 | City of Vallejo.
| Approximately 0.4 mile west of the intersection of Lawes Street and Dump Road | +11
San Pablo Bay | Approximately 0.4 mile south of the intersection of Mesa Road and 13th Street | +12 | City of Vallejo, Unincorporated Areas of Solano County.
| Approximately 0.5 mile west of the intersection of Lawes Street and Dump Road | +13
* National Geodetic Vertical Datum.
+ North American Vertical Datum.
# Depth in feet above ground.
‸ Mean Sea Level, rounded to the nearest 0.1 meter.
ADDRESSES
City of Vallejo
Maps are available for inspection at City of Vallejo Public Works Department, 555 Santa Clara Street, Vallejo, CA.
Unincorporated Areas of Solano County
Maps are available for inspection at Solano County Public Works Department, 675 Texas Street, Suite 5500, Fairfield, CA.

Flooding source(s) | Location of referenced elevation | * Elevation in feet (NGVD) + Elevation in feet (NAVD) # Depth in feet above ground Modified | Communities affected
Tehama County, California, and Incorporated Areas
FEMA Docket No.: B-7762
Grasshopper Creek | Approximately 1,500 feet upstream of the confluence with Red Bank Creek | *275 | Unincorporated Areas of Tehama County, City of Red Bluff.
| Approximately 0.4 mile upstream of South Jackson Street | *312
Highway 99W Overflow | Approximately 150 feet upstream of the confluence with Red Bank Creek | *282 | Unincorporated Areas of Tehama County.
| Approximately 0.5 mile upstream of the confluence with Red Bank Creek | *291
Spyglass Drive Overflow | At the confluence with Grasshopper Creek | *300 | City of Red Bluff.
| At South Jackson Street | *308
* National Geodetic Vertical Datum.
+ North American Vertical Datum.
# Depth in feet above ground.
ADDRESSES
City of Red Bluff
Maps available for inspection at the Red Bluff City Hall, 555 Washington Street, Red Bluff, California.
Unincorporated Areas of Tehama County
Maps available for inspection at the Tehama County Planning Department, 444 Oak Street, Red Bluff, California.
Taylor County, Florida, and Incorporated Areas
FEMA Docket No.: B-7774
Aucilla River | At U.S. Highway 98 | +10 | Unincorporated Areas of Taylor County.
| At the Taylor/Madison County boundary | +45
Pimple Creek | Approximately 600 feet upstream of the confluence with Spring Creek | +37 | City of Perry.
| Approximately 400 feet downstream of Cherry Street | +41
Pimple Creek East Branch | Just upstream of Johnson Stripling Road | +44 | City of Perry.
| Approximately 2,000 feet upstream of the confluence with Pimple Creek | +45
Rocky Creek | At the confluence with Spring Street | +25 | Unincorporated Areas of Taylor County.
| Approximately 1,300 feet upstream of U.S. Highway 221 | +56
* National Geodetic Vertical Datum.
+ North American Vertical Datum.
# Depth in feet above ground.
ADDRESSES
City of Perry
Maps are available for inspection at Perry City Hall, 224 South Jefferson Street, Perry, FL.
Unincorporated Areas of Taylor County
Maps are available for inspection at Taylor County Building/Planning Department, 201 East Green Street, Perry, FL.

Flooding source(s) | Location of referenced elevation | * Elevation in feet (NGVD) + Elevation in feet (NAVD) # Depth in feet above ground ‸ Elevation in meters (MSL) Modified | Communities affected
Jones County, Georgia, and Incorporated Areas
FEMA Docket No.: B-7764
Ocmulgee River | Approximately 14,050 feet downstream of River North Boulevard | +316 | Unincorporated Areas of Jones County.
| Approximately 16,790 feet upstream of River North Boulevard | +332
* National Geodetic Vertical Datum.
+North American Vertical Datum.
# Depth in feet above ground.
‸ Mean Sea Level, rounded to the nearest 0.1 meter.
ADDRESSES
Unincorporated Areas of Jones County
Maps are available for inspection at Zoning and Planning Department, P.O. Box 1359, 166 Industrial Boulevard, Gray, GA 31032-1359.

Flooding source(s) | Location of referenced elevation | * Elevation in feet (NGVD) + Elevation in feet (NAVD) # Depth in feet above ground Modified | Communities affected
Alexander County, Illinois, and Incorporated Areas
FEMA Docket No.: B-7774
Cotton Slough, interior drainage ponding | Unincorporated Alexander County (north of Urbandale, IL) | +308 | Unincorporated Areas of Alexander County.
Interior drainage ponding (Goose Pond Pumping Station) | Unincorporated Alexander County (near Urbandale, IL) | +309 | Unincorporated Areas of Alexander County.
Mississippi River | One mile upstream of the confluence with the Ohio River | +331 | City of Cairo, Unincorporated Areas of Alexander County, Village of East Cape Girardeau, Village of McClure, Village of Tamms, Village of Thebes.
| Six miles upstream of State Route 146 (River Mile 58) | +356
Pigeon Creek | At the mouth of Horseshoe Lake | +336 | Unincorporated Areas of Alexander County.
| At State Route 3 | +342
* National Geodetic Vertical Datum.
+ North American Vertical Datum.
# Depth in feet above ground.
ADDRESSES
City of Cairo
Maps are available for inspection at Cairo City Hall, 1501 Washington Avenue, Cairo, IL 62914.
Unincorporated Areas of Alexander County
Maps are available for inspection at Alexander County, County Clerk's Office, 2000 Washington Avenue, Cairo, IL 62914.
Village of East Cape Girardeau
Maps are available for inspection at East Cape Girardeau Village Hall, 50 Brookwood, McClure, IL 62957.
Village of McClure
Maps are available for inspection at McClure Village Hall, 38204 Grapevine Trail, McClure, IL 62957.
Village of Tamms
Maps are available for inspection at Tamms Village Hall, 425 Front Street, Tamms, IL 62988.
Village of Thebes
Maps are available for inspection at Thebes Village Hall, 413 North 6th Street, Thebes, IL 62990.
Barry County, Michigan, and Incorporated Areas
FEMA Docket No.: B-7749
Bristol Lake | Entire shoreline of Bristol Lake | +910 | Township of Johnstown.
Gull Lake | Entire shoreline of Gull Lake | +882 | Township of Barry, Township of Prairieville.
Gun Lake | Entire shoreline of Gun Lake | +746 | Township of Orangeville, Township of Yankee Springs.
Hathaway Lake | Entire shoreline of Hathaway Lake | +791 | Township of Rutland.
Lake North Ridge | Entire shoreline of Lake North Ridge | +870 | City of Hastings.
Mud Creek | Confluence with Thornapple Lake | +803 | Township of Castleton, Township of Woodland.
| Downstream side of Saddlebag Lake Road | +823
Thornapple River | Approximately 0.5 mile upstream of Thornapple Lake Road | +805 | Township of Castleton, Village of Nashville.
| Approximately 1 mile upstream of N. Main Street | +814
Thornapple River | Approximately 3 miles upstream of N. Broadway Street | +771 | Township of Hastings, Township of Rutland.
| Approximately 1.2 mile downstream of N. Broadway Street | +773
* National Geodetic Vertical Datum.
+ North American Vertical Datum.
# Depth in feet above ground.
ADDRESSES
City of Hastings
Maps are available for inspection at 102 S Broadway Street, Hastings, MI.
Township of Assyria
Maps are available for inspection at 8094 Tasker, Bellevue, MI.
Township of Baltimore
Maps are available for inspection at 3100 E. Dowling Road, Hastings, MI.
Township of Barry
Maps are available for inspection at 155 E. Orchard Street, Delton, MI.
Township of Carlton
Maps are available for inspection at 85 Welcome Road, Hastings, MI.
Township of Castleton
Maps are available for inspection at 915 Reed Street, Nashville, MI.
Township of Hastings
Maps are available for inspection at 885 River Road, Hastings, MI.
Township of Hope
Maps are available for inspection at 5463 S. M-43 Highway, Hastings, MI.
Township of Irving
Maps are available for inspection at 3425 Wing Road, Hastings, MI.
Township of Johnstown
Maps are available for inspection at 13641 South M-37 Highway, Battle Creek, MI.
Township of Maple Grove
Maps are available for inspection at 721 Durkee, Nashville, MI.
Township of Orangeville
Maps are available for inspection at 7350 Lindsey Road, Plainwell, MI.
Township of Prairieville
Maps are available for inspection at 10115 S. Norris Road, Delton, MI.
Township of Rutland
Maps are available for inspection at 2461 Heath Road, Hastings, MI.
Township of Thornapple
Maps are available for inspection at 200 E. Main Street, Middleville, MI.
Township of Woodland
Maps are available for inspection at 156 S. Main Street, Woodland, MI.
Township of Yankee Springs
Maps are available for inspection at 284 N. Briggs Road, Middleville, MI.
Village of Freeport
Maps are available for inspection at 200 S. State Street, Freeport, MI.
Village of Middleville
Maps are available for inspection at 100 E. Main Street, Middleville, MI.
Village of Nashville
Maps are available for inspection at 206 N. Main Street, Nashville, MI.
Village of Woodland
Maps are available for inspection at 171 N. Main Street, Woodland, MI.
Midland County, Michigan, and Incorporated Areas
FEMA Docket No.: B-7748
Chippewa River | Approximately 8,745 feet upstream of the confluence with Tittabawassee River | +616 | Township of Midland, Township of Homer.
| Approximately 18,635 feet upstream of the confluence with Tittabawassee River | +616
Sturgeon Creek | Approximately 4,200 feet upstream of Airport Road | +615 | City of Midland, Township of Larkin.
| Approximately 4,620 feet upstream of Airport Road | +615
Tittabawassee River | Approximately 5,000 feet upstream of Consumers Power Railroad | +611 | Township of Midland, City of Midland, Township of Homer.
| Approximately 14,080 feet upstream of the confluence of Sturgeon Creek | +616
* National Geodetic Vertical Datum.
+ North American Vertical Datum.
# Depth in feet above ground.
ADDRESSES
City of Midland
Maps are available for inspection at 333 West Ellsworth Street, Midland, MI 48640.
Township of Homer
Maps are available for inspection at Homer Township Hall, 522 North Homer Road, Midland, MI 48640.
Township of Larkin
Maps are available for inspection at Larkin Township Hall, 3027 North Jefferson Road, Midland, MI 48642.
Township of Midland
Maps are available for inspection at 1030 S. Poseyville Road, Midland, MI 48640.
Morgan County, Missouri, and Incorporated Areas
FEMA Docket No.: B-7759
Gravois Creek | At confluence with Osage River | +664 | Town of Gravois Mills, Unincorporated Areas of Morgan County.
| Approximately 1400 feet upstream of Route TT | +667
Lake of the Ozarks (Osage River and tributaries) | At confluence with Gravois Creek | +664 | Town of Gravois Mills, Unincorporated Areas of Morgan County.
| At confluence with Little Buffalo Creek | +665
* National Geodetic Vertical Datum.
+ North American Vertical Datum.
# Depth in feet above ground.
ADDRESSES
Town of Gravois Mills
Maps are available for inspection at City Office, 154 Highway 5, Gravois Mills, MO 65037.
Unincorporated Areas of Morgan County
Maps are available for inspection at County Office, 100 East Newton, Versailles, MO 65084.
Macon County, North Carolina, and Incorporated Areas
Docket No.: FEMA-D-7820 and FEMA-B-7736
Allison Creek | The confluence with Jones Creek | +2,232 | Unincorporated Areas of Macon County.
| Approximately 0.5 mile upstream of Southards Road (State Road 1133) | +2,492
Beasely Creek | At the confluence with Cowee Creek | +2,179 | Unincorporated Areas of Macon County.
| Approximately 215 feet downstream of Goshen Road (State Road 1347) | +2,269
Big Creek | The confluence with Cullasaja River | +3,606 | Unincorporated Areas of Macon County, Town of Highlands.
| Approximately 25 feet downstream of the confluence of Houston Branch | +3,837
Brooks Creek | The confluence with Clear Creek | +2,477 | Unincorporated Areas of Macon County.
| Approximately 0.4 mile upstream of the confluence with Clear Creek | +2,483
Burningtown Creek | At the confluence with Little Tennessee River | +1,890 | Unincorporated Areas of Macon County.
| Approximately 480 feet upstream of Younce Creek Road (State Road 1390) | +2,030
Caler Fork | The confluence with Cowee Creek | +2,013 | Unincorporated Areas of Macon County.
| Approximately 20 feet downstream of the confluence of Dalton Creek | +2,081
Cartoogechaye Creek | The confluence of Little Tennessee River | +2,024 | Unincorporated Areas of Macon County, Town of Franklin.
| At the confluence of Jones Creek and Poplar Cove Creek | +2,179
Cat Creek | The confluence with Rabbit Creek | +2,046 | Unincorporated Areas of Macon County.
| Approximately 0.5 mile upstream of Ferguson Road (State Road 1507) | +2,087
Chattooga River | The North Carolina/Georgia state boundary | +2,150 | Unincorporated Areas of Macon County.
| At the confluence of Cane Creek | +2,512
Clear Creek | The North Carolina/Georgia state boundary | +2,467 | Unincorporated Areas of Macon County.
| Approximately 390 feet upstream of Clear Creek Road (State Road 1613) | +2,498
Cold Spring Creek | The confluence with Whiteoak Creek | +3,162 | Unincorporated Areas of Macon County.
| Approximately 625 feet upstream of Cold Springs Creek Road (State Road 1397) | +3,382
Commissioner Creek | At the confluence with Little Tennessee River | +2,099 | Unincorporated Areas of Macon County.
| Approximately 0.8 mile upstream of the confluence with Little Tennessee River | +2,159
Coon Creek | The confluence with Watuaga Creek | +2,053 | Unincorporated Areas of Macon County.
| Approximately 430 feet upstream of Brendle Road (State Road 1331) | +2,268
Cove Branch | The confluence with ,asaja River | +2,018 | Unincorporated Areas of Macon County.
| Approximately 890 feet upstream of Hunnicutt Road (State Road 1664) | +2,065
Cowee Creek | The confluence with Little Tennessee River | +1,958 | Unincorporated Areas of Macon County.
| At the confluence of Beasley Creek and Mica City Creek | +2,179
Coweeta Creek | The confluence with Little Tennessee River | +2,047 | Unincorporated Areas of Macon County.
| Approximately 490 feet upstream of the confluence of Howard Branch | +2,123
Crawford Branch | The confluence with Little Tennessee River | +2,012 | Unincorporated Areas of Macon County, Town of Franklin.
| Approximately 660 feet upstream of Crawford Lane | +2,096
Cullasaja River | The confluence with Little Tennessee River | +2,017 | Unincorporated Areas of Macon County, Town of Franklin, Town of Highlands.
| Approximately 200 feet upstream of Crescent Trail | +3,979
Ellijay Creek | The confluence with Cullasaja River | +2,054 | Unincorporated Areas of Macon County.
| Approximately 60 feet upstream of Little Ellijay Road (State Road 1528) | +2,235
Jones Creek | At the confluence with Poplar Cove Creek and Cartoogechaye Creek | +2,179 | Unincorporated Areas of Macon County.
| At the confluence of Allison Creek | +2,232
Little Tennessee River | The Macon/Swain County boundary | +1,835 | Unincorporated Areas of Macon County, Town of Franklin.
| Approximately 0.5 mile upstream of the confluence of Commissioner Creek | +2,100
Little Tennessee River Tributary 5 | At the confluence with Little Tennessee River | +2,015 | Unincorporated Areas of Macon County, Town of Franklin.
| Approximately 720 feet upstream of John Justice Road (State Road 1509) | +2,104
Little Tennessee River Tributary 6 | At the confluence with Little Tennessee River | +2,018 | Unincorporated Areas of Macon County, Town of Franklin.
| Approximately 1.0 mile upstream of the confluence with Little Tennessee River | +2,083
Lotla Creek | At the confluence with Little Tennessee River | +1,972 | Unincorporated Areas of Macon County.
| Approximately 0.7 mile upstream of Airport Road (State Road 1434) | +2,017
Lowery Creek | At the confluence with Jones Creek | +2,191 | Unincorporated Areas of Macon County.
| Approximately 330 feet downstream of Anderson Creek Road (State Road 1302) | +2,315
Mashburn Branch | The confluence with Cullasaja River | +2,027 | Unincorporated Areas of Macon County.
| Approximately 0.5 mile upstream of Fulton Road (State Road 1668) | +2,094
Matlock Creek | The confluence with Cowee Creek | +1,994 | Unincorporated Areas of Macon County.
| The confluence with Rickman Creek | +2,055
Middle Creek | The confluence with Little Tennessee River | +2,064 | Unincorporated Areas of Macon County.
| Approximately 155 feet downstream of the confluence of Drymans Branch | +2,149
Mill Creek | The confluence with Cartoogechaye Creek | +2,091 | Unincorporated Areas of Macon County.
| The confluence of Mint Branch | +2,147
Mill Creek (Highlands) | The confluence with Cullasaja River | +3,658 | Town of Highlands.
| Approximately 150 feet downstream North 4th Street | +3,819
Monger Creek (Club Lake) | The confluence with Cullasaja River | +3,606 | Unincorporated Areas of Macon County, Town of Highlands.
| Approximately 1,230 feet upstream of Hummingbird Lane | +3,641
Nantahala River | Approximately 250 feet downstream of Macon/Swain County boundary | +1,961 | Unincorporated Areas of Macon County.
| Approximately 1.9 miles upstream of U.S. Highway 64 | +3,320
North Fork Coweeta Creek | The confluence with Coweeta Creek | +2,094 | Unincorporated Areas of Macon County.
| Approximately 0.6 mile upstream of Coweeta Church Road (State Road 1115) | +2,156
North Prong Ellijay Creek | The confluence with Ellijay Creek | +2,191 | Unincorporated Areas of Macon County.
| Approximately 0.6 mile upstream of the confluence with Ellijay Creek | +2,236
Otter Creek | At the confluence with Whiteoak Creek | +2,653 | Unincorporated Areas of Macon County.
| Approximately 1,200 feet upstream of Otter Creek Road (State Road 1365) | +2,842
Poplar Cove Creek | At the confluence with Cartoogechaye Creek and Jones Creek | +2,179 | Unincorporated Areas of Macon County.
| Approximately 380 feet upstream of Smith Hill Road (State Road 1306) | +2,264
Rabbit Creek | The confluence with Little Tennessee River | +2,001 | Unincorporated Areas of Macon County, Town of Franklin.
| At the confluence of Corbin Creek and Berry Creek | +2,220
Rocky Branch | The confluence with Little Tennessee River | +1,977 | Unincorporated Areas of Macon County.
| Approximately 950 feet downstream of Nettie Hurst Road | +1,996
Rose Creek | The confluence with Little Tennessee River | +1,946 | Unincorporated Areas of Macon County.
| Approximately 1,110 feet upstream of Furman Welch Road (State Road 1374) | +1,953
Satulah Branch | At the confluence with Mill Creek (Highlands) | +3,819 | Town of Highlands.
| Approximately 850 feet upstream of Smallwood Avenue | +3,832
Skeenah Creek | The confluence with Little Tennessee River | +2,037 | Unincorporated Areas of Macon County.
| Approximately 190 feet upstream of the confluence of South Fork Skeenah Creek | +2,073
Tessentee Creek | The confluence with Little Tennessee River | +2,056 | Unincorporated Areas of Macon County.
| The confluence of Whiterock Branch | +2,347
Watuaga Creek | The confluence with Little Tennessee River | +1,985 | Unincorporated Areas of Macon County.
| Approximately 155 feet downstream of Brown Branch Road | +2,230
Wayah Creek | At the confluence with Cartoogechaye Creek | +2,152 | Unincorporated Areas of Macon County.
| At the confluence of Shingletree Branch | +2,225
Whiteoak Creek | At the confluence with Nantahala River | +2,515 | Unincorporated Areas of Macon County.
| Approximately 900 feet upstream of the confluence of Cold Spring Creek | +3,169
* National Geodetic Vertical Datum.
+ North American Vertical Datum.
# Depth in feet above ground.
ADDRESSES
Town of Franklin
Maps are available for inspection at Franklin Town Hall, 188 West Main Street, Franklin, North Carolina.
Town of Highlands
Maps are available for inspection at Highlands Town Hall, 210 North Fourth Street, Highlands, North Carolina.
Unincorporated Areas of Macon County
Maps are available for inspection at Macon County Planning Department, Human Services Building, 5 West Main Street, Franklin, North Carolina.
Centre County, Pennsylvania, and Incorporated Areas
FEMA Docket No.: B-7768
Cherry Run | Approximately at the confluence with North Fork Beech Creek | +1396 | Township of Snow Shoe.
| Approximately at Clarence Road | +1396
* National Geodetic Vertical Datum.
+ North American Vertical Datum.
# Depth in feet above ground.
ADDRESSES
Township of Snow Shoe
Maps are available for inspection at Town Hall, 268 Oldside Road, Clarence, PA 16829.

(Catalog of Federal Domestic Assistance No. 97.022, “Flood Insurance.”)

Dated: November 24, 2008.
Michael K. Buckley,
Acting Assistant Administrator, Mitigation Directorate, Department of Homeland Security, Federal Emergency Management Agency.

[FR Doc. E8-28518 Filed 12-1-08; 8:45 am]

BILLING CODE 9110-12-P